DEPARTMENT OF AGRICULTURE

Farm Service Agency

Request for Extension of a Currently Approved Information Collection

AGENCY: Farm Service Agency, USDA.

ACTION: Notice and request for comments.

SUMMARY: In accordance with the Paperwork Reduction Act of 1995, this notice announces the intent of the Farm Service Agency (FSA) to request an extension of currently approved information collection for a regulation used in support of the FSA Farm Loan Programs (FLP). This renewal does not involve any revisions to the program rules.

DATES: Comments on this notice must be received on or before February 8, 2002 to be assured consideration.

FOR FURTHER INFORMATION CONTACT: Michael Cumpton, Senior Loan Officer, USDA, Farm Service Agency, Farm Loan Programs, Loan Servicing Division, 1400 Independence Avenue, SW., STOP 0523, Washington, DC 20250-0523; Telephone (202) 690-4014; Electronic mail: mike.cumpton@usda.gov.

SUPPLEMENTARY INFORMATION: Title: (7 CFR 1965-A) Servicing of Real Estate Security for Farmer Program Loans and Certain Note-Only Cases.

OMB Control Number: 0560-0158.

Expiration Date: Jan. 31, 2002.

Type of Request: Extension of a Currently Approved Information Collection.

Abstract: This regulation promulgates provisions of sections 331 and 335 of the Consolidated Farm and Rural Development Act (Act) (7 U.S.C. Secs. 1981 and 1985). Section 331 of the Act, in part, authorizes the Secretary of Agriculture to modify, subordinate and release terms of security instruments, leases, contracts, and agreements entered into by FSA. That section also authorizes transfers of security property as the Secretary deems necessary to carry out the purpose of the loan or protect the Government's financial interest. Section 335 of the Act provides servicing authority for real estate security, operation or lease of realty, disposition of property, conveyance of real property interests of the United States, including dispositions for easements and rights of way. The information collection required by this subpart relates to a program benefit recipient or loan borrower requesting action on security which they own which has been mortgaged to the Agency to secure a Government loan. The information to be collected will primarily be financial data not already on file, such as borrower asset values.

Estimate of Burden: Public reporting burden for this collection of information is estimated to average .42 hours per response.

Respondents: Individuals or households, businesses or other for profit farming entities.

Estimated Number of Respondents: 15,246.

Estimated Number of Responses per Respondent: 1.

Estimated Total Annual Burden on Respondents: 6,436 hours.

Comments are invited on: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology. These comments should be sent to the Desk Officer for Agriculture, Office of Information and Regulatory Affairs, Office of Management and Budget, Washington, DC 20503 and to Michael Cumpton, Senior Loan Officer, USDA, FSA, Farm Loan Programs, Loan Servicing Division, 1400 Independence Avenue, SW., STOP 0523, Washington, DC 20250-0523.

Comments will be summarized and included in the request for OMB approval of the information collection. All comments will also become a matter of public record.

Signed in Washington, DC, on November 20, 2001.
John W. Williams,
Acting Administrator, Farm Service Agency.

[FR Doc. 01-30392 Filed 12-7-01; 8:45 am]

BILLING CODE 3410-05-P